DEPARTMENT OF DEFENSE

Department of the Navy

Notice of Extension of Public Comment Period for the Draft Environmental Impact Statement for the Proposed Modernization and Expansion of Townsend Bombing Range, Georgia

AGENCY: Department of the Navy, DoD.

ACTION: Notice.

SUMMARY: The Department of the Navy (DoN) is extending the public comment period for the Draft Environmental Impact Statement (EIS) for the Proposed Modernization and Expansion of Townsend Bombing Range (TBR), Georgia (GA) until September 27, 2012. A Notice of Availability (NOA) and a Notice of Public Meetings (NOPMs) for the Draft EIS were published in the Federal Register on Friday, July 13, 2012 (Federal Register/Vol. 77, No. 135, Pages 41385-41387 (NOPMs) and Page 41403 (NOA)). Those notices announced the initial public comment period, including public meetings that took place on Tuesday, August 7, 2012 and Thursday, August 9, 2012, and provided additional information on the background and scope of the Draft EIS. The initial public comment period requested the submission of all comments on the Draft EIS to the DoN by August 27, 2012. The DoN is extending the public comment period until September 27, 2012.

FOR FURTHER INFORMATION CONTACT: Contact Capt. Cochran, 596 Geiger Blvd. MCAS Beaufort, SC 29904 at 843-228-6123.

SUPPLEMENTARY INFORMATION: The DoN, as lead agency, has prepared and filed the Draft EIS for the Proposed Modernization and Expansion of TBR, GA in accordance with the requirements of the National Environmental Policy Act of 1969 (42 United States Code 4321 et seq.) and its implementing regulations (40 Code of Regulations parts 1500-1508). The Draft EIS evaluates the potential environmental impacts of acquiring additional property and constructing the necessary infrastructure to allow the use of inert precision-guided munitions (PGMs) at TBR, GA.

The purpose of the Proposed Action is to provide an air-to-ground training range capable of providing a wider variety of air-to-ground operations, including the use of PGMs, to meet current training requirements. The Proposed Action is needed to more efficiently meet current training requirements for the United States Marine Corps aviation assets by significantly increasing air-to-ground training capabilities in the Beaufort, South Carolina Region. The Draft EIS has identified and considered four action alternatives and a No Action alternative.

More information of the Draft EIS can be found in the previously published NOA and NOPM (see Federal Register on Friday, July 13, 2012 (Federal Register/Vol. 77, No. 135, Pages 41385-41387 (NOPMs) and Page 41403 (NOA)). Federal, State, and local agencies, elected officials, and other interested parties and individuals, are invited and encouraged to review and comment on the Draft EIS. Comments on the Draft EIS can be submitted via the project email address (townsendbombingrangeeise@ene.com), project Web site or submitted in writing to: Townsend Bombing Range EIS Project Manager, Post Office Box 180458, Tallahassee, Florida, 32318. All comments must be postmarked or electronically dated on or before September 27, 2012 to be sure they become part of the public record.

The Draft EIS has been distributed to various Federal, State, local agencies, and Native American Tribes, as well as other interested parties and individuals. In addition, copies of the Draft EIS are available for public review at the following public libraries: Ida Hilton Public Library, 1105 North Way, Darien, GA, 31305; Long County Public Library, 28 S. Main Street, Ludowici, GA, 31316; and Hog Hammock Public Library, 1023 Hillery Lane, Sapelo Island, GA, 31327.

An electronic copy of the Draft EIS is also available for public viewing at http://www.townsendbombingrangeeis.com.

To be considered, all comments on the Draft EIS must be received by September 27, 2012. The DoN will consider and respond to all comments received on the Draft EIS when preparing the Final EIS. The DoN expects to issue the Final EIS in spring 2013, at which time a NOA will be published in the Federal Register and local print media. A Record of Decision is expected in summer 2013.

Dated: August 17, 2012.
C.K. Chiappetta,
Lieutenant Commander, U. S. Navy, Office of the Judge Advocate General, U.S. Navy, Federal Register Liaison Officer.

[FR Doc. 2012-20872 Filed 8-23-12; 8:45 am]

BILLING CODE 3810-FF-P